DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's (RBS) intention to request an extension for a currently approved information collection in support of the program for 7 CFR part 4279.

DATES: Comments on this notice must be received by May 7, 2013 to be assured of consideration.

FOR FURTHER INFORMATION CONTACT: Brenda Griffin, Loan Specialist, Business and Industry Division, Rural Business-Cooperative Service, U.S. Department of Agriculture, STOP 3224, 1400 Independence Ave. SW., Washington, DC 20250-3224. Telephone: (202) 720-6802. The TDD number is (800) 877-8339 or (202) 708-9300.

SUPPLEMENTARY INFORMATION: Title: Guaranteed Loanmaking—Business and Industry Loans.

OMB Number: 0570-0017.

Expiration Date of Approval: June 30, 2013.

Type of Request: Extension of a Currently Approved Information Collection.

Abstract: The Business and Industry (B&I) Guaranteed Loan Program was legislated in 1972 under Section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits.

Estimate of Burden: Public reporting for this collection of information is estimated to average 2 hours per response.

Respondents: Business or other for-profit; State, Local or Tribal; Lenders, accountants, attorneys.

Estimated Number of Respondents: 6,260.

Estimated Number of Responses per Respondent: 1.

Estimated Number of Responses: 6,260.

Estimated Total Annual Burden on Respondents: 16,067 hours.

Copies of this information collection can be obtained from Jeanne Jacobs, Regulations and Paperwork Management Branch, Support Services Division at (202) 692-0040.

Comments: Comments are invited on: (a) Whether the proposed collection of information is necessary for the proper performance of the functions of RBS, including whether the information will have practical utility; (b) the accuracy of RBS's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW., Washington, DC 20250. All responses to this notice will be summarized and included in the request for OMB approval. All comments will also become a matter of public record.

Dated: February 21, 2013.
Lillian E. Salerno,
Acting Administrator, Rural Business-Cooperative Service.

[FR Doc. 2013-05440 Filed 3-7-13; 8:45 am]

BILLING CODE 3410-XY-P